DEPARTMENT OF COMMERCE

International Trade Administration

[A-475-059]

Pressure Sensitive Plastic Tape From Italy: Notice of Initiation of Antidumping Duty Changed Circumstances Review

AGENCY: Import Administration, International Trade Administration, Department of Commerce.

DATES: Effective Date: September 16, 2009.

SUMMARY: In response to a request from Evotape Packaging S.r.l. (Evotape Packaging), a producer/exporter of pressure sensitive plastic tape from Italy, and pursuant to section 751(b) of the Tariff Act of 1930, as amended (the Act), and 19 CFR 351.216 and 351.221(c)(3), the Department is initiating a changed circumstances review of the antidumping duty finding on pressure sensitive plastic tape from Italy. This review is being conducted to determine whether there is a successor-in-interest to Tyco Adhesives Italia S.p.A. (Tyco) for purposes of determining antidumping liability.

FOR FURTHER INFORMATION CONTACT: Terre Keaton Stefanova or Rebecca Trainor, AD/CVD Operations, Office 2, Import Administration, International Trade Administration, U.S. Department of Commerce, 14th Street and Constitution Avenue, NW., Washington, DC 20230; telephone: (202) 482-1280 and (202) 482-4007, respectively.

SUPPLEMENTARY INFORMATION:

Background

On July 27, 2009, pursuant to section 751(b) of the Act and 19 CFR 351.216 and 351.221(c)(3), Evotape Packaging requested that the Department conduct a changed circumstances review to determine that it is the successor-in-interest to Tyco,¹ and therefore assign to it Tyco's antidumping duty deposit rate for future entries of subject merchandise. In addition, Evotape Packaging requested that the Department expedite this review in accordance with 19 CFR 351.221(c)(3)(ii), by issuing the notice of initiation and preliminary determination simultaneously within 45 days of the filing of the request. Evotape Packaging further requested that the Department issue a final affirmative changed circumstances determination within 45 days of initiation, in accordance with 19 CFR 351.216(e).

¹ On March 25, 2004, the Department determined that Tyco was the successor-in-interest to Manuli Tapes S.p.A. (Manuli). See Final Results of Antidumping Duty Changed Circumstances Review: Pressure Sensitive Plastic Tape from Italy, 69 FR 15297 (March 25, 2004).

On August 28, 2009, at the request of the Department, Evotape Packaging submitted additional information pertaining to its changed circumstances review request.

Scope of the Finding

The products covered by the finding are shipments of pressure sensitive plastic tape measuring over one and three-eighths inches in width and not exceeding four millimeters in thickness, currently classifiable under subheadings 3919.90.20 and 3919.90.50 of the Harmonized Tariff Schedule of the United States (HTSUS). The HTSUS subheadings are provided for convenience and for customs purposes. The written description remains dispositive.

Initiation of Changed Circumstances Review

Pursuant to section 751(b)(1) of the Act, the Department will conduct a changed circumstance review upon receipt of a request from an interested party or receipt of information concerning an antidumping duty order ² which shows changed circumstances sufficient to warrant a review of the order.

² Prior to the Trade Agreements Act of 1979 (1979 Act), Public Law 96-39, the Treasury Department issued antidumping “findings.” Section 106(a) of the 1979 Act expressly preserved the existing antidumping “findings” in the new law, but provided that after January 1, 1980, the Tariff Act of 1930 would be amended to require the Department to issue antidumping “orders” instead of “findings.”

As noted above, on July 27, 2009, Evotape Packaging submitted its request for a changed circumstances review. With its request, Evotape Packaging submitted certain information to demonstrate that in May 2005, its parent company (Evotape S.p.A) acquired Tyco's business and assets, which included two production units (packaging and masking tape) and related sales offices; and that in December 2007, Evotape S.p.A restructured the company and created two wholly-owned subsidiaries (i.e., Evotape Packaging and Evotape Masking S.r.l. (Evotape Masking)) using the assets and business of the two production units. Evotape Packaging also provided information pertaining to management, production facilities, supplier relationships and customer base with respect to the production and sale of subject merchandise during the 2005 acquisition and 2007 restructuring. In its August 28, 2009, response to the Department's request for information, Evotape Packaging provided information regarding the business operations of Evotape Masking.

In its request, Evotape Packaging claims that it operates as the same business entity as Tyco with respect to merchandise exported to the United States,³ and that its production facilities have not changed since it was part of Tyco. In addition, it claims that its product line, supplier relations, employees and customer base have remained largely the same, and although there were certain changes in management, these changes did not have a substantial impact on the production and sale of subject merchandise.

³ Evotape Packaging states that it is the former production unit of Tyco that produces and sells pressure sensitive plastic tape to the United States, i.e., merchandise subject to the antidumping duty finding. According to Evotape Packaging, Evotape Masking produces two products that fall within the scope of this finding, which Tyco also produced when it was in existence. However, Evotape Packaging states that Evotape Masking does not ship or sell these products to the United States, and has no future plans to do so.

Based on the information submitted by Evotape Packaging and in accordance with section 19 CFR 351.216, the Department finds there is sufficient information to warrant initiating a changed circumstances review. Therefore, pursuant to section 751(b)(1) of the Act and 19 CFR 351.216, we are initiating a changed circumstances review to determine whether there is a successor-in-interest to Tyco.

In making a successor-in-interest determination in antidumping proceedings, the Department typically examines several factors including, but not limited to: (1) Management; (2) production facilities; (3) supplier relationships; and (4) customer base. See, e.g., Notice of Final Results of Changed Circumstances Antidumping Duty Administrative Review: Polychloroprene Rubber from Japan, 67 FR 58 (January 2, 2002) (Polychloroprene Rubber from Japan); Brass Sheet and Strip from Canada; Final Results of Antidumping Duty Administrative Review, 57 FR 20460 (May 13, 1992) (Canadian Brass). While no single factor or combination of these factors will necessarily be dispositive, the Department will generally consider the new company to be the successor to the previous company if its resulting operation is not materially dissimilar to that of its predecessor. See, e.g., Polychloroprene Rubber from Japan; Industrial Phosphoric Acid from Israel: Final Results of Changed Circumstances Review, 59 FR 6944 (February 14, 1994); Canadian Brass; Fresh and Chilled Atlantic Salmon from Norway: Initiation and Preliminary Results of Changed Circumstances Antidumping Duty Administrative Review, 63 FR 50880 (September 23, 1998) (unchanged in final results, Fresh and Chilled Atlantic Salmon From Norway; Final Results of Changed Circumstances Antidumping Duty Administrative Review, 64 FR 9979 (March 1, 1999)). Thus, if the evidence demonstrates that, with respect to the production and sale of the subject merchandise, the new company operates as the same business entity as the former company, the Department will generally accord the new company the same antidumping duty treatment as its predecessor.

Although Evotape Packaging has submitted information which is sufficient for purposes of initiating a changed circumstances review, as discussed above, this information is not a sufficient basis to make a preliminary successor-in-interest determination at this time. Specifically, the Department has questions concerning the restructuring discussed above with respect to the business operations of Evotape Masking and Evotape Packaging. It appears from the information on the record that both companies use facilities once owned by Tyco (and before Tyco, by Manuli). Manuli/Tyco's antidumping duty margin may have been calculated based on information derived from all of these facilities. Therefore, a determination of a successor-in-interest, for purpose of antidumping liability, requires the Department to gather further information before it can make a preliminary successor-in-interest determination.

Accordingly, the Department has determined that it would be inappropriate to expedite this action by combining the preliminary results of review with this notice of initiation, as permitted under 19 CFR 351.221(c)(3)(ii) and as requested by Evotape Packaging. As a result, the Department is not issuing preliminary results for this changed circumstances review at this time.

The Department will request additional information in accordance with 19 CFR 351.221(b)(2), and will publish in the Federal Register a notice of preliminary results of the changed circumstances review, in accordance with 19 CFR 351.221(b)(4) and (c)(3)(i), which will set forth the factual and legal conclusions upon which our preliminary results are based and a description of any action proposed. Interested parties will have an opportunity to comment on the preliminary results of review. In accordance with 19 CFR 351.216(e), the Department will issue the final results of this antidumping duty changed circumstances review no later than 270 days after the date on which this review was initiated, or within 45 days if all parties agree to our preliminary results.

During the course of this antidumping duty changed circumstances review, cash deposit requirements for the subject merchandise produced and exported by Evotape Packaging will continue to be the all-others rate established in the investigation. See Pressure Sensitive Plastic Tape From Italy; Determination of Injury or Likelihood Thereof, 42 FR 44853 (September 7, 1977). The cash deposit rate requirement will be altered, if warranted, pursuant only to the final results of this review.

This notice of initiation is in accordance with sections 751(b)(1) and 777(i) of the Act and 19 CFR 351.216 and 351.221(c)(3).

Dated: September 10, 2009.
John M. Andersen,
Acting Deputy Assistant Secretary for Antidumping and Countervailing Duty Operations.

[FR Doc. E9-22340 Filed 9-15-09; 8:45 am]

BILLING CODE 3510-DS-P